DEPARTMENT OF DEFENSE

Office of the Secretary

Threat Reduction Advisory Committee

AGENCY: Department of Defense, Office of the Under Secretary of Defense (Acquisition, Technology and Logistics).

ACTION: Notice of advisory committee meeting.

SUMMARY: The Threat Reduction Advisory Committee will meet in closed session on Thursday, April 7, 2005, at the Institute for Defense Analyses (IDA), and on Friday, April 8, 2005 in the Pentagon, Washington, DC.

The Committee meets twice per year to advise the Under Secretary of Defense (Acquisition, Technology and Logistics) on reducing the threat from weapons of mass destruction. The Committee will receive classified briefings on chemical and biological warfare defense, nuclear deterrence transformation, combating weapons of mass destruction, and intelligence requirements. The Committee will hold classified discussions on these and related national security matters.

In accordance with Section 10(d) of the Federal Advisory Committee Act, Public Law 92-463, as amended (5 U.S.C. Appendix II), it has been determined that this Committee meeting concerns matters listed in 5 U.S.C. 552b(c)(1), and that accordingly the meeting will be closed to the public.

DATES: Thursday, April 7, 2005, (8 a.m. to 4 p.m.) and Friday, April 8, 2005, (8 a.m. to 9:30 a.m.)

ADDRESSES: Institute for Defense Analyses, Board Room, 4850 Mark Center Drive, Alexandria, Virginia and the USD (AT&L) Conference Room (3D1019), the Pentagon, Washington, DC.

FOR FURTHER INFORMATION CONTACT: Lieutenant Colonel Don Culp, USAF, Defense Threat Reduction Agency/AST, 8725 John J. Kingman Road MS 6201, Fort Belvoir, VA 22060-6201. Phone: (703) 767-5717.

Dated: March 23, 2005.
L.M. Bynum,
OSD Federal Register Liaison Officer, Department of Defense.

[FR Doc. 05-6207 Filed 3-29-05; 8:45 am]

BILLING CODE 5001-06-M